DEPARTMENT OF ENERGY

Federal Energy Regulatory Commission

Combined Notice of Filings #1

Take notice that the Commission received the following electric rate filings:

Docket Numbers: ER22-1378-000.

Applicants: Golden Spread Electric Cooperative, Inc.

Description: Supplement to March 18, 2022 Golden Spread Electric Cooperative, Inc. tariff filing.

Filed Date: 5/11/22.

Accession Number: 20220511-5098.

Comment Date: 5 p.m. ET 5/25/22.

Docket Numbers: ER22-1418-001.

Applicants: Trailstone Renewables, LLC.

Description: Tariff Amendment: Amendment to 1 to be effective 3/23/2022.

Filed Date: 5/12/22.

Accession Number: 20220512-5120.

Comment Date: 5 p.m. ET 6/2/22.

Docket Numbers: ER22-1858-000.

Applicants: Appalachian Power Company.

Description: § 205(d) Rate Filing: RS 300 Removal of KPCO from PCA to be effective 12/31/9998.

Filed Date: 5/11/22.

Accession Number: 20220511-5126.

Comment Date: 5 p.m. ET 6/1/22.

Docket Numbers: ER22-1859-000.

Applicants: PJM Interconnection, L.L.C.

Description: Tariff Amendment: Notice of Cancellation of IISA, SA No. 6095; Queue No. AE2-224 re: Superseded to be effective 4/7/2022.

Filed Date: 5/11/22.

Accession Number: 20220511-5128.

Comment Date: 5 p.m. ET 6/1/22.

Docket Numbers: ER22-1860-000.

Applicants: Midcontinent Independent System Operator, Inc., Big Rivers Electric Corporation.

Description: § 205(d) Rate Filing: Midcontinent Independent System Operator, Inc. submits tariff filing per 35.13(a)(2)(iii: 2022-05-12_BREC Attachment O and A to be effective 6/1/2022.

Filed Date: 5/12/22.

Accession Number: 20220512-5105.

Comment Date: 5 p.m. ET 6/2/22.

Docket Numbers: ER22-1861-000.

Applicants: Public Service Company of New Mexico.

Description: § 205(d) Rate Filing: Schedule 2 Compliance Filing—Correction of Typographical Error to be effective 10/1/2021.

Filed Date: 5/12/22.

Accession Number: 20220512-5119.

Comment Date: 5 p.m. ET 6/2/22.

Docket Numbers: ER22-1862-000.

Applicants: ISO New England Inc., The Connecticut Light and Power Company.

Description: § 205(d) Rate Filing: ISO New England Inc. submits tariff filing per 35.13(a)(2)(iii: ISO-NE/CL&P; Original Service Agreement No. LGIA-ISONE/CLP-22-01 to be effective 4/12/2022.

Filed Date: 5/12/22.

Accession Number: 20220512-5135.

Comment Date: 5 p.m. ET 6/2/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2022.
Debbie-Anne A. Reese,
Deputy Secretary.

[FR Doc. 2022-10680 Filed 5-17-22; 8:45 am]

BILLING CODE 6717-01-P